DEPARTMENT OF THE INTERIOR

Bureau of Land Management

[CACA 49537, LLCAD08000, L51030000, FX0000, LVRAM109AA03]

Notice of Availability of the Record of Decision for the Calico Solar Project and Associated Amendment to the California Desert Conservation Area Resource Management Plan-Amendment, San Bernardino County, CA

AGENCY: Bureau of Land Management, Interior.

ACTION: Notice of availability.

SUMMARY: The Bureau of Land Management (BLM) announces the availability of the Record of Decision (ROD) for a right-of-way (ROW) lease/grant to Calico Solar Limited Liability Corporation (LLC) for the Calico Solar Project (formerly SES Solar One) and an associated Amendment to the California Desert Conservation Area Resource Management Plan (CDCA Plan). The Calico Solar Project is located in San Bernardino County, California. The Secretary of the Interior signed the ROD on October 20, 2010, which constitutes the final decision of the Department. The ROD and the Approved Plan Amendment are effective immediately.

DATES: These decisions are effective immediately upon publication of this notice.

ADDRESSES: Copies of the ROD are available upon request from the Field Manager, Barstow Field Office, Bureau of Land Management, 2601 Barstow Road, Barstow, California 92311 or at the following Web site: http://www.blm.gov/ca/st/en/prog/energy/fasttrack/calico/fedstatus.html or http://www.blm.gov/ca/st/en/fo/barstow/solar_one_calico.html. Copies of the ROD are also available for public inspection at the Barstow Field Office.

FOR FURTHER INFORMATION CONTACT: Jim Stobaugh, National Project Manager, by telephone: 775-861-6478; mail: BLM Nevada State Office, P.O. Box 12000, Reno, Nevada 89520-0006; or e-mail: Jim_Stobaugh@blm.gov.

SUPPLEMENTARY INFORMATION: After extensive environmental analysis; consultation and collaboration with Federal, state, and local agencies; consideration of public comments; and application of relevant Federal laws and policies, the BLM has decided to offer Calico Solar LLC a ROW lease/grant for the construction, operation, maintenance, and decommissioning of the 663.5 megawatt (MW), 4,604-acre Calico Solar Project, including related project facilities and access roads across public lands administered by the BLM. In association with this ROW lease/grant, the BLM is also amending the CDCA Plan to allow for the siting of a solar energy power plant on the proposed project site. The ROW lease/grant authorizes the use of public lands for the project for a term of 30 years, and the lease/grant is renewable. A temporary use permit authorizes the use of public lands for construction of temporary access roads and construction space for a term of 3 years and is also subject to renewal. The amendment of the CDCA Plan will allow for the siting of the Calico Solar Project and related facilities, including 26,450 SunCatcher solar dishes, a 230-kilovolt (kV) Calico Substation and 2-mile, 230-kv transmission line, and other project facilities through incorporation of the Calico Solar Project into the Energy Production and Utility Corridors Element of the CDCA Plan. The BLM's decision authorizes issuance of a ROW lease/grant to Calico Solar LLC for the Modified Agency Preferred Alternative. The Agency Preferred Alternative is within the scope of alternatives that were analyzed in the Final Environmental Impact Statement (EIS) issued in August 2010. Modifications to the Agency Preferred Alternative have been made since publication of the Final EIS as the result of additional agency consultation and in response to public comments. The Environmental Protection Agency published a Notice of Availability (NOA) of the Final EIS in the Federal Register on August 6, 2010 (75 FR 47620). Publication of the NOA for the Final EIS initiated a 30-day protest period for the proposed amendment to the CDCA Plan. At the close of the protest period on September 7, 2010, five protests were received and resolved. Detailed information on the protests may be found on the BLM Washington Office Web site at: http://www.blm.gov/wo/st/en/prog/planning/protest_resolution.html. The proposed amendment to the CDCA Plan was not modified as a result of the protest resolution. Simultaneously with the protest period, the California Governor's Office conducted a 30-day consistency review of the proposed CDCA Plan amendment/Final EIS to identify any inconsistencies with state or local plan, policies or programs. The California Governor's office did not identify inconsistencies between the proposed amendment to the CDCA Plan/Final EIS. As a result of the above and additional consultation with jurisdictional regulatory agencies, the 6,215-acre, 850-MW Agency Preferred Alternative for the Calico Solar Project was modified to include: (1) A project footprint reduced from 6,215 acres to 4,604 acres; (2) generation capacity reduced from 850-MW (34,000 SunCatchers) to 663.5-MW (26,540 SunCatchers); and (3) construction of Phase 1 subdivided into phase 1a and 1b. The authorized ROW lease/grant includes all of the above modifications.

Because this decision is approved by the Secretary of the Interior, it is not subject to administrative appeal (43 CFR 4.410(a)(3)).

Authority: 40 CFR 1506.6.

Robert V. Abbey,
Director, Bureau of Land Management.

[FR Doc. 2010-27027 Filed 10-25-10; 8:45 am]

BILLING CODE 4310-40-P